DEPARTMENT OF HEALTH AND HUMAN SERVICES

Food and Drug Administration

[Docket No. FDA-2012-P-1189]

Canned Tuna Deviating From Identity Standard; Temporary Permit for Market Testing

AGENCY: Food and Drug Administration, HHS.

ACTION: Notice.

SUMMARY: The Food and Drug Administration (FDA or we) received applications for temporary permits from Bumble Bee Foods, LLC; Chicken of the Sea International; and StarKist Seafood Company (the applicants). We are announcing that we have issued temporary permits to the applicants to market test products (designated as “canned tuna” products) that deviate from the U.S. standard of identity for canned tuna. The purpose of the temporary permits is to market test the product throughout the United States and the Commonwealth of Puerto Rico. The permits will allow the applicants to measure consumer acceptance of the products and assess the commercial feasibility of the products.

DATES: These permits are effective for 15 months, beginning on the date each applicant introduces or causes the introduction of the test products into interstate commerce, but not later than September 18, 2014.

FOR FURTHER INFORMATION CONTACT: Loretta A. Carey, Center for Food Safety and Applied Nutrition (HFS-820), Food and Drug Administration, 5100 Paint Branch Pkwy., College Park, MD 20740, 240-402-2371.

SUPPLEMENTARY INFORMATION: We have issued a temporary permit to each of the following applicants: Bumble Bee Foods, LLC; Chicken of the Sea International; and StarKist Seafood Company. We are issuing these temporary permits in accordance with 21 CFR 130.17, which addresses temporary permits for interstate shipment of experimental packs of food varying from the requirements of standards of identity issued under section 401 of the Federal Food, Drug, and Cosmetic Act (21 U.S.C. 341).

These permits cover limited interstate marketing tests of products identified as “canned tuna.” These test products deviate from the U.S. standard of identity for canned tuna (21 CFR 161.190) in that they are labeled without the statement “Below Standard in Fill” as required in § 161.190(c)(4) and 21 CFR 130.14(b). The test products meet all the requirements of the standard with the exception of this deviation.

The purpose of these temporary permits is to market test the product throughout the United States and the Commonwealth of Puerto Rico. These permits will allow the applicants to measure customer acceptance of the products and assess commercial feasibility of the products.

Table 1 lists the amount of product for distribution and the manufacturers of the products for each of the applicants. The retail cans for the products are of various sizes.

Table 1—Amount, Manufacturer, and Location by Applicant
Applicant | Amount of canned tuna for distribution | Manufacturer and location
Bumble Bee Foods, LLC, 9655 Granite Ridge Dr., San Diego, CA 92123 | 141,000,000 pounds (lbs) (63,800,905 kilograms (kgs)) | Asian Alliance, 8/8 Moo 3, Rama 2 Rd., Bunbor, Muang, Samutsakorn 74000, Thailand.
|  | Chicken of the Sea Georgia Canning, 129 North Commerce Dr., Lyons, GA 30436.
|  | Bumble Bee Seafoods, Inc., 13100 Arctic Circle, Santa Fe Springs, CA 90670.
|  | Chotiwat Manufacturing Co., 84/22 Moo 7, Asia Highway Rd. #43, P.O. Box 37, T. Korhong, Hatyai Songkhla, Thailand 90110.
|  | Gentuna (GTC/Century), P.O. Tambler, General Santos City, South Cotabato, Philippines 9500.
|  | I.S.A. Value Co., Ltd. (Narong), 101/6 Mu 6, Soi Muangsakul Road, Samaedam, Bangkhutien, Bangkok 10150, Thailand.
|  | Pataya Foods, 90/6 Tambol Tarsai, Muang, Samutprakarn, Pataya, Thailand.
|  | PT Aneka Tuna, Jalan Raya Surabaya-Malang Km. 38, Gempol, Pasuruan 67155 Jawa Timur.
|  | R.S. Cannery Co., Ltd., 255/1 Industrial Soi 3, Industrial Estate, Samutprakarn 10280, Thailand.
|  | Tropical Canning Thailand, Km. 19 Kanjanavanich Rd., Thungyai, Hatyai, Songkhla 90110, Thailand.
|  | Unicord, 39/3 Moo 8, Sedtakit 1 Rd., Thasai, Muang, Samutsakorn 74000, Thailand.
Chicken of the Sea International, 9330 Scranton Rd., Suite 500, San Diego, CA 92121 | 77,500,000 lbs (35,067,873 kgs) | Bumble Bee Seafoods, Inc., 13100 Arctic Circle, Santa Fe Springs, CA 90670.
|  | Century Canning, Suite 1906, Centerpoint Bldg., Julia Vargas Avenue cor. Garnet St., Ortigas Ctr., Pasig City, Manila, Philippines 1605.
|  | Chicken of the Sea Georgia Canning, 129 North Commerce Dr., Lyons, GA 30436.
|  | MMP International, 19/8 Moo 6, Tambol Nadee, Muang District, Samutsakorn 74000, Thailand.
|  | PT Juifa International Foods, JL Lingkar Timur No. 53, Tegal Kamulyan Cilacap 53211, Jawa Tengah, Indonesia.
|  | Songkhla Canning, 333 Kanjanavanich Rd., Tumbol Pavong, Amphur Muang, Songkhla 90100, Thailand.
|  | Thai Union Frozen Products PCL, 72/1 Moo 7 Sethakit 1 Rd., Tambon Tarsrai, Amphur Muang, Samutsakorn 74000, Thailand.
|  | Thai Union Manufacturing, 30/2 Moo 8, Sethakit 1 Road, Tambon Tarsrai, Amphur Muang, Samutsakorn 74000, Thailand.
|  | Yueh Chyang Canned Food Group, Nhut Chinh Village, Ben Luc District, Long An Province, Vietnam.
StarKist Seafood Company, 225 North Shore Dr., Pittsburgh, PA 15212 | 182,500,000 lbs (82,579,185 kgs) | Galapesca S.A., Km. 12.5 Via A Duale, Guayaquil, Ecuador.
|  | StarKist Samoa Co., 368 Atu'u Rd., Pago Pago, American Samoa 96799.

Bumble Bee Foods, LLC; Chicken of the Sea International; and StarKist Seafood Company will distribute the test products throughout the United States and the Commonwealth of Puerto Rico. The information panels on the labels of the test products must bear nutrition labeling in accordance with 21 CFR 101.9. Each of the ingredients used in the food must be declared on the labels of the test products as required by the applicable sections of part 101. These permits are effective for 15 months, beginning on the date each applicant introduces or causes the introduction of the test products into interstate commerce, but not later than September 18, 2014.

Dated: June 17, 2014.
Philip C. Spiller,
Acting Director, Office of Nutrition, Labeling and Dietary Supplements, Center for Food Safety and Applied Nutrition.

[FR Doc. 2014-14447 Filed 6-19-14; 8:45 am]

BILLING CODE 4164-01-P